DEPARTMENT OF TRANSPORTATION

Federal Highway Administration

Notice To Rescind the Notice of Intent To Prepare an Environmental Impact Statement, Valley County, ID

AGENCY: Federal Highway Administration.

ACTION: Rescind Notice of Intent to prepare an Environmental Impact Statement.

SUMMARY: The FHWA is issuing this notice to advise the public that the Notice of Intent published on January 24, 2000 (Volume 65, Number 15) to prepare an EIS for a proposed highway project in Valley County, Idaho is being rescinded.

FOR FURTHER INFORMATION CONTACT: Mr. John Perry, Field Operations Engineer, Federal Highway Administration, 3050 Lakeharbor Lane, Suite 126, Boise, Idaho 83703, Telephone: (208)334-9180 or Mr. Greg Vitley, Sr. Environmental Planner, Idaho Transportation Department District 3, P.O. Box 8028, 83707-2028, Telephone: (208)334-8300.

SUPPLEMENTARY INFORMATION: The Federal Highway Administration (FHWA) in cooperation with Idaho Transportation Department (ITD) published a Notice of Intent (NOI) on January 24, 2000 (Volume 65, Number 15) to prepare an Environmental Impact Statement (EIS) evaluating the alternatives for transportation improvements along a 7.04-mile stretch of State Highway 55 (SH-55) from milepost 94.85 to milepost 101.89. The project is officially known as the SH-55, Smith's Ferry to Round Valley Project (Project No. DHP-NH-1568(001); Key No. 01004). The Purpose and Need of this project was to improve safety, reduce existing road deficiencies, and decrease traffic congestion in the area of Smith's Ferry to Round Valley, on SH-55. A series of project team meetings/public workshops were held and a range of alternatives were developed and evaluated; however, because development pressures have decreased since the inception of this project, ITD has determined the basis for the Purpose and Need of the project is no longer valid resulting in the NOI being rescinded.

Instead, minor safety and congestion improvements which may include north and southbound passing lanes, and intersection improvements are being proposed to meet the future needs of the corridor. These improvements could require minor road realignments to avoid existing resources and replacement of Tripod Creek and Round Valley Creek culverts. To meet fiscal constraint requirements, the project would be programmed in a phased manner. These proposed safety improvements are not anticipated to result in significant impacts on the human or natural environment.

If, at a future time, FHWA determines that the proposed safety and congestion improvements are likely to have a significant impact on the environment, a new NOI to prepare an EIS will be published.

To ensure that the full range of issues related are identified, comments or questions regarding this action to rescind the NOI are invited from all interested parties. These comments or questions should be directed to FHWA or ITD at the addresses provided above.

Peter J. Hartman,
Division Administrator, FHWA—Idaho Division.

[FR Doc. 2012-6123 Filed 3-13-12; 8:45 am]

BILLING CODE P